DEPARTMENT OF JUSTICE

Notice of Lodging of Consent Decrees Under the Comprehensive Environmental Response, Compensation and Liability Act (“CERCLA”) and the Clean Water Act (“CWA”)

Under Section 122(d)92) of CERCLA, 42 U.S.C. 9622(d)(2), and 28 CFR 50.7, notice is hereby given that on December 10, 2004, proposed Consent Decrees in United States v. Alcoa, Inc., Civil Action No. 6:04-cv-00119, were lodged with the United States District Court for the Southern District of Texas.

In this action the United States and the State of Texas sought injunctive relief, costs, and natural resource damages pursuant to the Comprehensive Environmental Response, Compensation and Liability Act (“CERCLA”) and the Clean Water Act (“CWA”) and the regulations promulgated thereunder. The Alcoa facility is located in Point Comfort, Calhoun County, Texas.

Under the Consent Decree for CERCLA Response Actions and Response Costs, Alcoa Inc. and Alcoa World Alumina L.L.C. will operate a groundwater recovery system at a former chlorine-alkali plant, dredge mercury-contaminated sediments, and cap portions of the Plant and monitor sediments and fish to confirm the recovery of sediment and fish tissue to acceptable levels. The companies also will pay past costs of $404,726 to the United States and $100,000 to Texas. The companies also agreed to pay the governments' future costs.

Under the Consent Decree for Natural Resource Damages, Alcoa Inc. and Alcoa World Alumina L.L.C. will construct new fishing piers at Six Mile Park, Point Comfort Park, and Bayfront Peninsula; replace an existing auxiliary boat ramp and construct a new timber dock at Six Mile Park; modify an existing jetty at Magnolia Beach; and construct a new timber dock at Six Mile Park and at Lighthouse Beach. The companies also will construct a 10.9-acre oyster reef at an estimated cost of $1 million and will create a 69.3-acre intertidal marsh at an estimated cost of $10 million. In addition, the companies will arrange for the conveyance to the United States of approximately 729 acres of property, which is adjacent to the Aransas National Wildlife Refuge, for inclusion into the Refuge after the marsh restoration project has been completed. The companies will pay about $800,000 in additional past costs, plus $195,000 for future costs that the federal and state trustees expect to incur.

The Department of Justice will receive for a period of thirty (30) days from the date of this publication comments relating to the Consent Decrees. Comments should be addressed to the Assistant Attorney General, Environment and Natural Resources Division, P.O. Box 7611, U.S. Department of Justice, Washington, DC 20044-7611, and should refer to United States v. Alcoa Inc., D.J. Ref. Nos. 90-11-3-655/1 and 90-11-3-655/2. Commenters may request an opportunity for a public meeting in the affected area, in accordance with Section 7003(d) of RCRA, 42 U.S.C. 6973(d).

The Consent Decrees may be examined during the public comment period on the following Department of Justice Web site: http://www.usdoj.gov/enrd/open.html. A copy of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a complete copy of the Consent Decrees from the Consent Decree Library, please enclose a check in the amount of $215.00 (25 cents per page reproduction cost) payable to the U.S. Treasury. If only one complete Consent Decree is sought, please enclose a check in the amount of $178.25 for the Consent Decree for CERCLA Response Actions and Response Costs, or $36.75 for the Consent Decree for Natural Resource Damages. In requesting a copy of both Consent Decrees, exclusive of exhibits and defendants' signatures, please enclose a check in the amount of $49.50 (25 cents per page reproduction cost) payable to the U.S. Treasury. If only one Consent Decree, without exhibits and signatures, is sought, please enclose a check in the amount of $35.75 for the Consent Decree for CERCLA Response Actions and Response Costs, or $13.75 for the Consent Decree for Natural Resource Damages.

Thomas A. Mariani, Jr.,
Assistant Section Chief, Environmental Enforcement Section, Environment and Natural Resources Division.

[FR Doc. 04-28047 Filed 12-22-04; 8:45 am]

BILLING CODE 4410-15-M